ENVIRONMENTAL PROTECTION AGENCY

[EPA-HQ-OPP-2021-0743; FRL-9182-01-OCSPP]

Agency Information Collection Activities; Proposed Renewal and Request for Comment; Reporting in the Federal Insecticide, Fungicide, and Rodenticide Act (FIFRA) Grant Database

AGENCY: Environmental Protection Agency (EPA).

ACTION: Notice.

SUMMARY: In compliance with the Paperwork Reduction Act (PRA), this document announces the availability of and solicits public comment on the following Information Collection Request (ICR) that EPA is planning to submit to the Office of Management and Budget (OMB). The ICR, entitled: “Reporting in the Federal Insecticide, Fungicide, and Rodenticide Act (FIFRA) Grant Database,” identified by EPA ICR No. 2511.03 and OMB Control No. 2070-0198, represents the renewal of an existing ICR that is scheduled to expire on December 31, 2022. Before submitting the ICR to OMB for review and approval under the PRA, EPA is soliciting comments on specific aspects of the proposed information collection that is summarized in this document. The ICR and accompanying material are available in the docket for public review and comment.

DATES: Comments must be received on or before May 27, 2022.

ADDRESSES: Submit your comments, identified by docket identification (ID) number EPA-HQ-OPP-2021-0743, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Mission Support Division 7101M), Office of Program Support, Office of Chemical Safety and Pollution Prevention, Environmental Protection Agency, 1200 Pennsylvania Ave. NW, Washington, DC 20460-0001; telephone number: (202) 566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Reporting in the Federal Insecticide, Fungicide, and Rodenticide Act (FIFRA) Grant Database.

ICR numbers.: EPA ICR No. 2511.03; OMB Control No.: 2070-0198.

ICR status: The existing ICR is currently scheduled to expire on December 31, 2022. Under the PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This ICR describes the burden activities for the electronic collection of information for the pre-award burden activity for creating a work plan and the post-award and after-the-grant award activities related to reporting accomplishments to implement EPA's FIFRA State and Tribal Assistance Grant (STAG) program (7 U.S.C. 136u).

In 2019, a workgroup comprised of EPA, state and tribal representatives converted the FIFRA Work Plan and Report Template (FIFRA Template), which was in Excel, into a pilot program of a web-based system housed in the Central Data Exchange (CDX) platform, called the FIFRA Grant Database (FGD). When the permanent use of the pilot program is approved by OMB, then the use of the FGD will become mandatory, replacing the excel web-based system entirely.

This ICR also augments the ICR entitled “EPA's General Regulation for Assistance Programs ICR” (OMB Control No. 2030-0020; EPA ICR No. 0938.18) which accounts for the current PRA burden for the minimum management requirements for all recipients of EPA grants or cooperative agreements (assistance agreements). This ICR provides the burden assessment for the FIFRA program specific activities associated with using a standardized online template for only the STAG program reporting.

The ICR supporting statement, which is available in the docket along with other related materials, provides a detailed explanation of the collection activities and the burden estimate that is only briefly summarized in this document.

Burden statement: The annual public reporting and recordkeeping burden for this collection of information is estimated to average 87.55 hours per response. Burden is defined in 5 CFR 1320.3(b).

Respondents/affected entities: Entities potentially affected by this ICR are state, local governments, Indian tribes, and U.S. territories that are grantees of Federal funds participating in the FIFRA STAG program. The corresponding North American Industry Classification System (NAICS) codes for respondents include: 9241 (Administration of Environmental Quality programs); and 92115 (American Indians and Alaska Native Tribal Governments).

Respondent's obligation to respond: Mandatory, as per FIFRA sections 23(a)(1) and 23(a)(2)).

Frequency of response: Biannually.

Total estimated number of potential respondents: 81.

Total estimated average number of responses for each respondent: 2.

Total estimated annual burden hours: 26,195 hours.

Total estimated annual costs: $ 2,102,179, which includes an estimated cost of $ 0 for non-burden hour paperwork costs, e.g., capital investment or maintenance and operational costs.

III. Are there changes in the estimates from the last approval?

Due to an error, the annual burden hours for “per-event” were incorrectly estimated at 46.15 hours to conduct STAG grant activities. The correct number is 323.4 hours “per event” for conducting STAG activities. For this renewal ICR, there is no increase over the currently approved ICR in terms of the per event annual paperwork burden hours for grantees to use the FIFRA grant Database. The FIFRA STAG Grant online template annual overall burden since the renewal ICR remains the same; all 81 recipients may use the reporting tool and instructions. The overall burden hours are therefore also the same at 26,195 hours. The burden cost in this ICR has increased relative to the previous ICR due to updating the wages. These changes are characterized as adjustments.

In addition, OMB has requested that EPA move towards using the 18-question format for ICR Supporting Statements used by other federal agencies and departments and that is based on the submission instructions established by OMB in 1995, replacing the alternate format developed by EPA and OMB prior to 1995. The Agency does not expect this change in format to result in substantive changes to the information collection activities or related estimated burden and costs.

IV. What is the next step in the process for this ICR?

EPA will consider comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB.

If you have any questions about this ICR or the approval process, please contact the person listed under FOR FURTHER INFORMATION CONTACT.

Authority: 44 U.S.C. 3501 et seq.

Dated: March 22, 2022.
Michal Freedhoff,
Assistant Administrator, Office of Chemical Safety and Pollution Prevention.

[FR Doc. 2022-06377 Filed 3-25-22; 8:45 am]

BILLING CODE 6560-50-P